DEPARTMENT OF DEFENSE

Department of the Army

[Docket ID USA-2013-0046]

Proposed Collection; Comment Request

AGENCY: Department of Defense/Department of the Army/U.S. Army Training and Doctrine Command (TRADOC).

ACTION: Notice.

SUMMARY: In compliance with Section 3506(c)(2)(A) of the Paperwork Reduction Act of 1995, the Office of the Assistant Secretary of Defense for the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 24, 2014.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to U.S. Army PEO Aviation, Product Director Aviation Networks and Mission Planning (SFAE-AV-AS-ANMP) ATTN: George C. Goodman Jr. Sparkman Center, Building 5309, Redstone Arsenal, Alabama 35898, Phone (256) 842-4995.

SUPPLEMENTARY INFORMATION:

Title; Multiple Forms; and OMB Number: Centralized Aviation Flight Records (CAFRS); DA Form 2408-12; OMB Control Number 0702-XXXX.

Needs and Uses: The information collection requirement is necessary to obtain and retain flying experience, qualifications and training data of each aviator, crew member, Unmanned Aircraft System (UAS) operator, flight surgeon and aeromedical physician assistants in aviation service; and to monitor and manage individual contractor flight and ground personnel records. Leadership uses CAFRS to determine proficiency of Air Traffic Controllers and Air Traffic Control Maintenance Technicians and the reliability of the Air Traffic Control system operations within the Department of the Army. CAFRS provides Commanders with access to essential aviation information in order to accomplish effective Risk Assessment/Risk Management throughout the Aviation Mission Planning process.

Affected Public: Individuals or Households; Federal Government Employees.

Annual Burden Hours: 99,600.

Number of Respondents: 1,328.

Responses per Respondent: 300.

Average Burden per Response: .25.

Frequency: On Occasion, Weekly, and Daily.

SUPPLEMENTARY INFORMATION:

Summary of Information Collection

Respondents are contractors. CAFRS system collection of information manages qualification and training records for aviation personnel. The system provides the Army's senior level leadership visibility over aviation flight operations information to assist in resource, readiness, and personnel management decision-making.

Dated: December 18, 2013.
Aaron Siegel,
Alternate OSD Federal Register Liaison Officer, Department of Defense.

[FR Doc. 2013-30528 Filed 12-23-13; 8:45 am]

BILLING CODE 5001-06-P